COMMODITY FUTURES TRADING COMMISSION

Sunshine Act Meetings

Agency Holding the Meeting: Commodity Futures Trading Commission.

Time and Date: 11 a.m., Friday, June 25, 2004.

Place: 1155 21st St., NW., Washington, DC, Room 1012.

Status: Closed.

Matters To Be Considered:

Surveillance Matters.

Contact Person for More Information: Jean A. Webb, 202-418-5100.

Jean A. Webb,
Secretary of the Commission.

[FR Doc. 04-11188 Filed 5-13-04; 10:39 am]

BILLING CODE 6351-01-M